DEPARTMENT OF COMMERCE

National Oceanic and Atmospheric Administration

[RTID 0648-XD245]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Pacific Pelagic Fishery Ecosystem Plan Team, Fishing Industry Advisory Committee, American Samoa Archipelago Fishery Ecosystem Plan (FEP) Advisory Panel (AP), Education Committee, Mariana Archipelago FEP Guam AP, Mariana Archipelago Commonwealth of the Northern Mariana Islands Advisory AP, and the Hawaii Archipelago FEP AP to discuss and make recommendations on fishery management issues in the Western Pacific Region.

DATES: The meetings will be held between August 28 and September 8, 2023. For specific times and agendas, see SUPPLEMENTARY INFORMATION.

ADDRESSES: The Council will hold its Education Committee, and the Mariana Archipelago Fishery Ecosystem Plan (FEP) Advisory Panel (AP) will be held by Webex. The Pacific Pelagic Fishery Ecosystem Plan Team, Fishing Industry Advisory Committee (FIAC), American Samoa Archipelago Fishery Ecosystem Plan (FEP) Advisory Panel, Mariana Archipelago FEP Guam AP, and the Hawaii Archipelago FEP AP meetings will be held in a hybrid format with in-person and remote participation (Webex) options available for the members and the public. In-person attendance for the American Samoa Archipelago FEP AP members and public will be hosted at the Tradewinds Hotel, M779+HP9, Tafuna, AS, 96799. In-person attendance for Mariana Archipelago FEP Guam AP members and public will be hosted at Cliff Pointe, 304 W. O'Brien Drive, Hagatña, GU, 96910. In person attendance for Pacific Pelagic Fishery Ecosystem Plan Team, FIAC and Hawaii Archipelago FEP AP members and public will be hosted at the Council office, 1164 Bishop Street, Suite 1400, Honolulu, HI, 96813. Instructions for connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Contact Kitty M. Simonds, Executive Director, Western Pacific Fishery Management Council; phone: (808) 522-8220.

SUPPLEMENTARY INFORMATION: The Pacific Pelagics Fishery Ecosystem Plan Team will meet on Monday, August 28, from 12:30 p.m. to 5 p.m. FIAC will meet on Wednesday, August 30, from 2 p.m. to 5 p.m.; American Samoa Archipelago FEP AP will meet on Wednesday, August 30, from 6 p.m. to 8 p.m.; the Education Committee will meet on Thursday, August 31, from 1 p.m. to 3 p.m.; Mariana Archipelago FEP Guam AP will meet on Thursday, August 31, from 6 p.m. to 8 p.m.; Mariana Archipelago CNMI AP will meet on Saturday, September 2, from 10 a.m. to 1 p.m.; and the Hawaii Archipelago FEP AP will meet on Friday, September 8, from 9 a.m. to 4 p.m.. All times listed are local island times.

Public Comment periods will be provided in the agendas. The order in which agenda items are addressed may change. The meetings will run as late as necessary to complete scheduled business.

Schedule and Agenda for the Pacific Pelagic Fishery Ecosystem Plan Team Meeting

Monday, August 28, 2023, 12 p.m.-5 p.m. (Hawaii Standard Time)

1. Welcome and Introductions

2. Approval of Draft Agenda

3. Update and Follow-up on May 2023 Recommendations

4. Options and Scenarios for Implementing Electronic Monitoring in Western Pacific Longline Fisheries

5. 2024 U.S. Territorial Bigeye Tuna Catch/Effort Limit & Allocation Specifications

6. Multi-Year Territorial Bigeye Tuna Catch & Allocation Specifications

7. International Fisheries

A. 3rd Workshop on Tropical Tuna Longline Management

B. Updates International Science Committee 19 and Western and Central Pacific Fishery Commission (WCPFC) Science Committee

8. Revising the Council's Research Plan & Priorities

9. Public Comment

10. Discussion and Recommendations

Schedule and Agenda for the Fishing Industry Advisory Committee Meeting

Wednesday, August 30, 2023, 2 p.m.-5 p.m. (Hawaii Standard Time)

1. Welcome and Introductions

2. Status Report on Previous Fishing Industry Advisory Committee Recommendations

3. Roundtable update on Fishing/Market Issues/Impacts

4. 2024 U.S. Territorial Bigeye Tuna Catch and Effort Limit and Allocation Specifications

5. Options and Scenarios for Electronic Monitoring (EM) in Western Pacific (WP) Longline

6. National Seafood Strategy

7. Saltonstall-Kennedy Project Updates

A. Update on Marketing Projects

B. Fishery Development Projects

8. Update on Proposed Marine National Sanctuary in Pacific Remote Island Areas

9. Update on Cost-Earnings Survey & Economic Analyses

10. WCPFC Updates

11. Council Program Priorities

12. Other Issues

13. Public Comment

14. Discussion and Recommendations

Schedule and Agenda for the American Samoa Archipelago FEP AP Meeting

Wednesday, August 30, 2023, 6 p.m.-8 p.m. (Samoa Standard Time)

1. Welcome and Introductions

2. Review of the Last Advisory Panel (AP) Recommendations and Meeting

3. Feedback from the Fleet

A. American Samoa (AS) Fishermen Observations

B. Advisory Panel Fishery Issues and Priorities

4. AS Fishery Issues and Activities

A. American Samoa P* and Social, Economic, Ecological and Management Working Group Report

B. Options for the Rebuilding Plan and Annual Catch Limits for the AS Bottomfish Management Unit Species

5. Council Fishery Issues and Activities

A. 2024 U.S. Territorial Bigeye Tuna Catch and Effort Limit and Allocation Specifications

B. Options and Scenarios for EM in WP Longline

6. Updates on Poseidon Fisheries Research Biosampling

7. Council Program Planning 2025-2029

8. Other Business

9. Public Comment

10. Discussion and Recommendations

Schedule and Agenda for the Mariana Archipelago FEP Guam AP Meeting

Thursday, August 31, 2023, 6 p.m.-8 p.m. (Chamorro Standard Time)

1. Welcome and Introductions

2. Review of the Last AP Recommendations and Meeting

3. Guam AP Project and Activities Update

4. Feedback from the Fleet

A. Second Quarter Fishermen Observations in the Marianas

B. Marianas Archipelago Fishery Issues and Priorities

5. Council Fishery Issues and Activities

A. 2024 U.S. Territorial Bigeye Tuna Catch and Effort Limit and Allocation Specifications

6. Updates on the Proposed Rule to Designate Critical Habitat for Green Sea Turtles

7. Council Program Planning 2025-2029

8. Other Business

9. Public Comment

10. Discussion and Recommendations

Schedule and Agenda for the Education Committee Meeting

Thursday, August 31, 2023, 1 p.m.-3 p.m. (Hawaii Standard Time)

1. Welcome and Introductions

2. Education and Outreach Program Overview

A. Funding Structure

3. Council Education Committee Memorandum of Understanding Review

A. Scholarship Program

B. Vocational and Training Development Related to Fisheries

C. Education Plan Development and Classroom Incorporation

4. Marine Resource Education Program in Pacific Islands Update

5. Other Business

6. Public Comment

7. Discussion and Recommendations

Schedule and Agenda for the Mariana Archipelago FEP CNMI AP Meeting

Saturday, September 2, 2023, 10 a.m.-1 p.m. (ChST)

1. Welcome and Introductions

2. Review of the Last AP Recommendations and Meeting

3. CNMI AP Project and Activities Update

4. Feedback from the Fleet

A. Second Quarter Fishermen Observations in the Marianas

B. CNMI Fishery Issues and Priorities

5. Council Fishery Issues and Activities

A. 2024 U.S. Territorial Bigeye Tuna Catch and Effort Limit and Allocation Specifications

B. CNMI Marine Conservation Plan 2025-2027

6. Updates on the Proposed Rule to Designate Critical Habitat for Green Sea Turtles

7. Council Program Planning 2025-2029

8. Other Business

9. Public Comment

10. Discussion and Recommendations

Schedule and Agenda for the Hawaii Archipelago FEP AP Meeting

Friday, September 8, 2023, 9 a.m.-4 p.m. (HST)

1. Welcome and Introductions

2. Review of the Last AP Recommendations and Meeting

3. Hawaii AP Project and Activities Update

4. Feedback from the Fleet

A. Second Quarter Hawaii Fishermen Observations

B. Hawaii AP Fisheries Issues and Priorities

5. Hawaii Fishery Issues and Activities

A. Options and Scenarios for EM implementation in WP Longline

B. Pacific Remote Island Areas Sanctuary Designation Update

6. Main Hawaiian Islands Uku Ecosystem Based Fisheries Management Project

7. Lokahi Fishing App Feature for Fisher Engagement

8. Updates on the Division of Aquatic Resource's Rulemaking on Kona Crab

9. Council Program Planning 2025-2029

10. Other Business

11. Public Comment

12. Discussion and Recommendations

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: August 8, 2023.
Rey Israel Marquez,
Acting Deputy Director, Office of Sustainable Fisheries, National Marine Fisheries Service.

[FR Doc. 2023-17268 Filed 8-10-23; 8:45 am]

BILLING CODE 3510-22-P